FEDERAL ACCOUNTING STANDARDS ADVISORY BOARD

Notice of Meeting Location Change and Joint Meeting of FASAB and GASB

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) will meet on Wednesday, June 23rd, 2010, from 9 a.m. to 4 p.m. in room 6N30, 441 G St., NW., Washington, DC. On Thursday, June 24th, 2010, the Federal Accounting Standards Advisory Board (FASAB) will meet jointly with the Governmental Accounting Standards Board (GASB) from 8:30 a.m. to 3 p.m. at the GASB Offices, 401 Merritt 7, Fifth Floor, Norwalk, CT.

The purpose of the meeting is to discuss:

—Measurement Attributes,

—Reporting Model,

—Cost Accounting, and

—Governance Issues.

A more detailed agenda can be obtained from the FASAB Web site http://www.fasab.gov.

Any interested person may attend the meeting as an observer. Board discussion and reviews are open to the public. GAO Building security requires advance notice of your attendance. Please notify FASAB by June 21, 2010 of your planned attendance by calling 202-512-7350.

FOR FURTHER INFORMATION CONTACT: Wendy Payne, Executive Director, at (202) 512-7350.

Authority: Federal Advisory Committee Act, Pub. L. 92-463.

Dated: June 8, 2010.
Charles Jackson,
Federal Register Liaison Officer.

[FR Doc. 2010-14129 Filed 6-10-10; 8:45 am]

BILLING CODE 1610-02-P